DEPARTMENT OF DEFENSE

Office of the Secretary

Availability of the Fiscal Year 2008 Defense Advanced Research Projects Agency (DARPA) Services Contracts Inventory

AGENCY: Defense Advanced Research Projects Agency (DARPA), DoD.

ACTION: Notice of availability.

SUMMARY: In accordance with section 2330a of Title 10 United States Code as amended by the National Defense Authorization Act for Fiscal Year 2008 (NDAA 08) Section 807, the Director of the Defense Advanced Research Projects Agency and the Office of the Director, Defense Procurement and Acquisition Policy, Office of Strategic Sourcing (DPAP/SS) will make available to the public the first inventory of activities performed pursuant to contracts for services. The inventory will be published to the Defense Advanced Research Projects Agency (DARPA) Web site at the following location: http://www.darpa.mil/cmo/section807.html.

DATES: Inventory to be made publically available within 30 days after publication of this notice.

ADDRESSES: Send written comments and suggestions concerning this inventory to Kristen Fuller, Special Assistant to the Deputy Director of the Contracts Management Office, 3701 N Fairfax Drive, Arlington VA 22203.

FOR FURTHER INFORMATION CONTACT: Kristen Fuller at (703) 526-4168 or e-mail Kristen.Fuller@darpa.mil.

Dated: October 26, 2009.
Patricia L. Toppings,
OSD Federal Register Liaison Officer, Department of Defense.

[FR Doc. E9-26185 Filed 10-29-09; 8:45 am]

BILLING CODE 5001-06-P